DEPARTMENT OF ENERGY

Federal Energy Regulatory Commission

Combined Notice of Filings #1

October 7, 2009.

Take notice that the Commission received the following electric rate filings:

Docket Numbers: ER09-1049-002.

Applicants: Midwest Independent Transmission System Operator, Inc.

Description: Midwest Independent Transmission System Operator, Inc submits revisions to the Open Access Transmission, Energy and Operating Reserve Markets Tariff.

Filed Date: 10/02/2009.

Accession Number: 20091005-0084.

Comment Date: 5 p.m. Eastern Time on Friday, October 23, 2009.

Docket Numbers: ER09-1462-000.

Applicants: Lake Benton Power Partners II, LLC.

Description: NextEra Energy Resources, LLC Submits Lake Benton Power Partners II, LLC Amendment to Request for Authorization to Sell Energy and Capacity at Market-based Rates and Waiver of the 60-day Requirement.

Filed Date: 10/07/2009.

Accession Number: 20091007-5036.

Comment Date: 5 p.m. Eastern Time on Wednesday, October 28, 2009.

Docket Numbers: ER09-1473-002.

Applicants: NorthWestern Corporation.

Description: Northwestern Corporation submits replacement page to the Large Generator Interconnection Agreement showing the amended Section 30.4 in the context of the unchanged Section 30.2 etc.

Filed Date: 10/06/2009.

Accession Number: 20091007-0084.

Comment Date: 5 p.m. Eastern Time on Tuesday, October 27, 2009.

Docket Numbers: ER10-1-000.

Applicants: High Majestic Wind Energy Center, LLC.

Description: High Majestic Wind Energy Center, LLC submits request for authorization to sell energy and capacity at market based rates.

Filed Date: 10/06/2009.

Accession Number: 20091007-0153.

Comment Date: 5 p.m. Eastern Time on Tuesday, October 27, 2009.

Docket Numbers: ER10-2-000.

Applicants: Butler Ridge Wind Energy Center, LLC.

Description: Butler Ridge Wind Energy Center, LLC submits application for authorization to make market-based sales of energy, capacity and certain ancillary services under a market-based rate tariff.

Filed Date: 10/06/2009.

Accession Number: 20091007-0152.

Comment Date: 5 p.m. Eastern Time on Tuesday, October 27, 2009.

Docket Numbers: ER10-3-000.

Applicants: Wessington Wind Energy Center, LLC.

Description: Wessington Wind Energy Center, LLC submits application for authorization to make market-based sales of energy, capacity and certain ancillary services under a market-based rate tariff.

Filed Date: 10/06/2009.

Accession Number: 20091007-0151.

Comment Date: 5 p.m. Eastern Time on Tuesday, October 27, 2009.

Docket Numbers: ER10-35-000.

Applicants: Xcel Energy Services Inc.

Description: Public Service Company of Colorado et al submits the PSC0 Electric Coordination Service Tariff FERC Electric, Original Volume 2 etc.

Filed Date: 10/06/2009.

Accession Number: 20091007-0083.

Comment Date: 5 p.m. Eastern Time on Tuesday, October 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-24795 Filed 10-14-09; 8:45 am]

BILLING CODE 6717-01-P